DEPARTMENT OF STATE

[Public Notice 4588]

Notice of Meeting; Shipping Coordinating Committee

The Shipping Coordinating Committee (SHC) will conduct an open meeting at 10 a.m. on Tuesday, February 3, 2004, in Room 2415 of the United States Coast Guard Headquarters Building, 2100 2nd Street SW., Washington, DC, 20593-0001. The primary purpose of the meeting is to prepare for the Diplomatic Conference on Ballast Water Management for Ships by the International Maritime Organization (IMO) Marine Environment Protection Committee (MEPC) to be held at IMO Headquarters in London, England from February 9th to 13th, 2004.

The primary matters to be considered include:

—Adoption of the agenda;

—Adoption of the Rules of Procedure;

—Election of the Vice-Presidents and other officers of the Conference;

—Appointment of the Credentials Committee;

—Organization of the work of the Conference, including the establishment of other committees, as necessary;

—Consideration of the draft International Convention for the Control and Management of Ships' Ballast Water and Sediments and any draft Conference resolutions;

—Consideration of the reports of the committees;

—Adoption of the Final Act and any instrument, recommendations and resolutions resulting from the work of the Conference;

—Signature of the Final Act.

Please note that hard copies of documents associated with Diplomatic Conference will not be available at this meeting. Documents will be available in Adobe Acrobat format on CD-ROM. To requests documents please write to the address provided below, or request documents via the following Internet link: http://www.uscg.mil/hq/g-m/mso/mso4/mepc.html.

Members of the public may attend this meeting up to the seating capacity of the room. Interested persons may seek information by writing to Ensign Mary Stewart, Commandant (G-MSO-4), U.S. Coast Guard Headquarters, 2100 Second Street SW., Room 1600, Washington, DC 20593-0001 or by calling (202) 267-2079.

Dated: January 13, 2004.
Steve Poulin,
Executive Secretary, Shipping Coordinating Committee, Department of State.

[FR Doc. 04-1356 Filed 1-21-04; 8:45 am]

BILLING CODE 4710-09-P